CORPORATION FOR NATIONAL AND COMMUNITY SERVICE

Privacy Act of 1974; System of Records

AGENCY: Corporation for National and Community Service.

ACTION: Notice of new system of records.

SUMMARY: In accordance with the Privacy Act of 1974, as amended, the Office of External Affairs of the Corporation for National and Community Service (operating as AmeriCorps) proposes to establish a new system of records titled “CNCS-05-OEA-SNPE Social Network and Public Engagement System of Records.” This system of records allows AmeriCorps to maintain information that individuals share voluntarily with AmeriCorps when they engage in activities promoted by AmeriCorps or interact with AmeriCorps via social networks channels. It also allows AmeriCorps to retain individuals' user account information, when login is required for access to the services provided by AmeriCorps' websites.

DATES: You may submit comments on or before June 12, 2023. Unless timely comments are received that would require a revision, this new system of records will become effective on June 12, 2023.

ADDRESSES: You may submit comments identified by system name and number by any of the following methods:

1. Electronically through regulations.gov. Once you access regulations.gov, find the web page for this SORN by searching for CNCS-05-OEA-SNPE. Follow the instructions on the website for submitting comments.

2. By email at privacy@cns.gov.

3. By mail: AmeriCorps, Attn: Bilal Razzaq, Chief Privacy Officer, OIT, 250 E Street SW, Washington, DC 20525.

4. By hand delivery or courier to AmeriCorps at the address for mail between 9:00 a.m. and 4:00 p.m. Eastern Standard Time, Monday through Friday, except for Federal holidays.

Please note that all submissions received may be posted without change to regulations.gov, including any personal information. Commenters should be careful to include in their comments only information that they wish to make publicly available.

FOR FURTHER INFORMATION CONTACT: If you have general questions about the system of records, please contact ZhuoHong Liu at zliu@cns.gov, by phone at 202-938-7868, or mail them to the address in the ADDRESSES section above. Please include the system of records' name and number.

SUPPLEMENTARY INFORMATION:

I. Background

In accordance with the Privacy Act of 1974, 5 U.S.C. 552a, AmeriCorps' Office of External Affairs proposes to establish a new agency-wide system of records titled “CNCS-5-OEA-SNPE Social Network and Public Engagement System of Records.” This system will help AmeriCorps interact with the public in meaningful ways, encourage the wide sharing of information about AmeriCorps' programs, promote public engagement in AmeriCorps' programs, and recruit more volunteers to participate in community service. The information will also be used for program analytics and administrative purposes to ensure quality control, performance, and improve program management processes.

II. Privacy Act

The Privacy Act codifies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents.

AmeriCorps will share information from the system in accordance with the requirements of the Privacy Act. A full list of routine uses is included in the routine uses section of the document published with this notice.

In accordance with 5 U.S.C. 552a(r), AmeriCorps has provided a report of this system of records to the Office of Management and Budget and to Congress.

Below is the description of CNCS-05-OEA-SNPE Social Network and Public Engagement System of Records.

SYSTEM NAME AND NUMBER:

CNCS-5-OEA-SNPE Social Network and Public Engagement.

SECURITY CLASSIFICATION:

Unclassified.

SYSTEM LOCATION:

This system of record is maintained by the Office of External Affairs, Department of Chief Executive Officer, AmeriCorps, 250 E Street SW, Washington, DC 20525.

SYSTEM MANAGER(S):

(1) Deputy Director, Office of External Affairs, Department of Chief Executive Officer, 250 E Street SW, Washington, DC 20525; (2) Administrative Officer, Office of External Affairs, Department of Chief Executive Officer, 250 E Street SW, Washington, DC 20525.

AUTHORITY FOR MAINTENANCE OF THE SYSTEM:

The National and Community Service Act of 1990, as amended (42 U.S.C. chapter 129), the Domestic Volunteer Service Act of 1973, as amended (42 U.S.C. chapter 66); and Executive Order 13571.

PURPOSE(S) OF THE SYSTEM:

The information is being collected in the system to support AmeriCorps' external interactions concerning its programs. The Agency uses social network platforms and its websites to increase its collaboration and transparency with the public, as well as with employees, members, grantees, contractors, and others who are interested in AmeriCorps' programs and services. The system will enable AmeriCorps to effectively expand its public outreach, interact with the public in meaningful ways, and encourage wide sharing of information about AmeriCorps' programs. AmeriCorps will also use the information for program analytics, program segmentation research, and administrative purposes to ensure quality control, program performance, and improving management processes.

CATEGORIES OF INDIVIDUALS COVERED BY THE SYSTEM:

The system contains records about these categories of individuals: users of social networks who interact with AmeriCorps through the Agency's website, or through various social network outlets, including but not limited to third-party sites, services such as Meta, YouTube, LinkedIn, or other social media platforms. Other covered individuals may include those who sign on to various parts of AmeriCorps' website with a user identity, including but not limited to sites and services such as Meta and Twitter. These may be public individuals, members and grantees of AmeriCorps programs, and AmeriCorps employees and contractors.

CATEGORIES OF RECORDS IN THE SYSTEM:

This may include name, username, email address, IP addresses, location, passwords, authentication, business affiliation, demographic information, videos, photos, shipment address when the public individual requests free program promotion materials from AmeriCorps website, and other general user information.

RECORD SOURCE CATEGORIES:

The information in the records is obtained from individuals who voluntarily interact with AmeriCorps through its website or social network sites and services, or who engage in the public outreach programs run by AmeriCorps' Office of External Affairs.

ROUTINE USES OF RECORDS MAINTAINED IN THE SYSTEM, INCLUDING CATEGORIES OF USERS AND PURPOSES OF SUCH USES:

In addition to those disclosures generally permitted under 5 U.S.C. 552a(b), all or a portion of the records or information contained in this system of records may be disclosed outside of AmeriCorps as a routine use pursuant to 5 U.S.C. 552a(b)(3) under the circumstances or for the purposes described below, to the extent such disclosures are compatible with the purposes for which the information was collected:

A. To the U.S. Department of Justice (DOJ), including the U.S. Attorneys Offices, or other Federal agencies conducting litigation or proceedings before any court, adjudicative, or administrative body, when it is relevant or necessary to the litigation or proceeding and one of the following is a party to the litigation or has an interest in such litigation:

(1) AmeriCorps;

(2) Any employee or former employee of AmeriCorps in his/her official capacity;

(3) Any employee or former employee of AmeriCorps in his/her individual capacity, but only when DOJ or AmeriCorps has agreed to represent the employee; or

(4) The United States or any agency thereof.

B. To a congressional office in response to an inquiry from that congressional office which is made at the request of the individual to whom the record pertains.

C. To the National Archives and Records Administration or General Services Administration, pursuant to records management inspections conducted under the authority of 44 U.S.C. 2904 and 2906.

D. To an agency or organization for the purpose of performing audit or oversight operations as authorized by law, but only such information as is necessary and relevant to the audit or oversight function.

E. To the Executive Office of the President in response to an inquiry from that office made at the request of the subject of a record, or a third party on that person's behalf, or for a purpose compatible with the reason for which the records are collected or maintained.

F. To an official of another Federal agency to provide information needed in the performance of official duties related to reconciling or reconstructing data files or to enable that agency to respond to an inquiry by the individual to whom the record pertains.

G. To State, Territorial, and local governments and tribal organizations to provide information needed in response to a court order and/or for discovery purposes related to litigation, when the disclosure is compatible with the purpose for which the records were compiled.

H. To appropriate agencies, entities, and persons when:

(1) AmeriCorps suspects or has confirmed that there has been a breach of the system of records;

(2) AmeriCorps has determined that as a result of the suspected or confirmed breach there is a risk of harm to individuals, AmeriCorps (including its information systems, programs, and operations), the Federal Government, or national security; and

(3) The disclosure made to such agencies, entities, and persons is reasonably necessary to assist AmeriCorps in connection with its efforts to respond to the suspected or confirmed breach or to prevent, minimize, or remedy such harm.

I. To another Federal agency or Federal entity, when AmeriCorps determines that information from this system of records is reasonably necessary to assist the recipient agency or entity in:

(1) Responding to a suspected or confirmed breach; or

(2) Preventing, minimizing, or remedying the risk of harm to individuals, the recipient agency or entity (including its information systems, programs, and operations), the Federal Government, or national security, resulting from a suspected or confirmed breach.

J. To an appropriate Federal, State, Tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

K. To a court, magistrate, or administrative tribunal in the course of presenting evidence, including disclosures to opposing counsel or witnesses in the course of civil discovery, litigation, or settlement negotiations or in connection with criminal law proceedings, when it is relevant and necessary to the litigation or proceeding.

L. To contractors and their agents, grantees, experts, consultants, and others performing or working on a contract, service, grant, cooperative agreement, or other assignment for AmeriCorps, when necessary to accomplish an agency function related to this system of records. Individuals provided information under this routine use are subject to the same requirements and limitations on disclosure as are applicable to AmeriCorps officers and employees.

M. To appropriate third parties contracted by AmeriCorps to investigate a complaint or appeal filed by an employee or applicant, or to facilitate and conduct mediation or other alternative dispute resolution (ADR) procedures or programs.

N. To any official or designee charged with the responsibility to conduct qualitative assessments at a designated statistical agency and other well established and trusted public or private research organizations, academic institutions, or agencies for an evaluation, study, research, or other analytical or statistical purpose.

Disclosure to Consumer Reporting Agencies: None.

POLICIES AND PRACTICES FOR STORAGE OF RECORDS:

AmeriCorps stores records in this system electronically. The records may be stored on magnetic disc, tape, and digital media.

POLICIES AND PRACTICES FOR RETRIEVAL OF RECORDS:

Records may be retrieved by full-text search or email address.

POLICIES AND PRACTICES FOR RETENTION AND DISPOSAL OF RECORDS:

These records are retained indefinitely until they are scheduled with the National Archives and Records Administration and are eligible for disposition under those schedules.

ADMINISTRATIVE, TECHNICAL, AND PHYSICAL SAFEGUARDS:

AmeriCorps safeguards records in this system according to applicable laws, rules, and policies, including all applicable AmeriCorps automated systems security and access policies. AmeriCorps has strict controls in place to minimize the risk of compromising the information that is being stored. Access to the computer system containing the records in this system is limited to those individuals who have a need to know the information for the performance of their official duties and who have appropriate clearances or permissions.

RECORD ACCESS PROCEDURES:

In accordance with 45 CFR part 2508—Implementation of the Privacy Act of 1974, as amended, individuals wishing to access their own records that are stored within the system of records may contact the FOIA Officer/Privacy Act Officer by sending (1) an email to FOIA@cns.gov or (2) a letter addressed to the System Manager, Attention: Privacy Inquiry. Individuals who make a request must include enough identifying information (i.e., full name, current address, date, and signature) to locate their records, indicate that they want to access their records, and be prepared to confirm their identity, as required by 45 CFR part 2508.

CONTESTING RECORD PROCEDURES:

All requests to contest or amend information maintained in the system will be directed to the FOIA Officer/Privacy Act Officer. Individuals who make a request must include enough identifying information to locate their records, in the manner described above in the Record Access Procedures section. Requests should state clearly and concisely what information is being contested, the reasons for contesting it, and the proposed amendment to the information.

NOTIFICATION PROCEDURES:

Any individual desiring to contest or amend information not subject to exemption may contact the FOIA Officer/Privacy Act Officer via the contact information in the Record Access Procedures section. Individuals who make a request must include enough identifying information to locate their records, indicate that they want to be notified whether their records are included in the system, and be prepared to confirm their identity as required by 45 CFR part 2508.

EXEMPTIONS PROMULGATED FOR THE SYSTEM:

None.

HISTORY:

None.

Gina Cross,
Senior Agency Official for Privacy and Chief Operating Officer.

[FR Doc. 2023-10164 Filed 5-11-23; 8:45 am]

BILLING CODE P